DEPARTMENT OF COMMERCE

International Trade Administration

[A-602-809]

Certain Hot-Rolled Steel Flat Products From Australia: Final Results of Antidumping Duty Administrative Review; 2017-2018

AGENCY: Enforcement and Compliance, International Trade Administration, Department of Commerce.

SUMMARY: The Department of Commerce (Commerce) determines that the producer/exporter subject to this administrative review made sales in the United States of certain hot-rolled steel flat products from Australia at less than normal value during the period of review (POR) October 1, 2017 through September 30, 2018.

DATES: Applicable October 7, 2020.

FOR FURTHER INFORMATION CONTACT: Rachel Greenberg, AD/CVD Operations, Office V, Enforcement and Compliance, International Trade Administration, U.S. Department of Commerce, 1401 Constitution Avenue NW, Washington, DC 20230; telephone: (202) 482-0652.

SUPPLEMENTARY INFORMATION:

Background

This review covers one producer/exporter of the subject merchandise: BlueScope Steel (AIS) Pty Ltd./BlueScope Steel Ltd./BlueScope Steel Distribution (collectively, BlueScope).

On December 10, 2019, Commerce published the Preliminary Results.¹ On March 13, 2020, Commerce fully extended the deadline for the final results of this review to June 12, 2020.² On April 24, 2020, Commerce tolled all deadlines in administrative reviews by 50 days.³

¹ See Certain Hot-Rolled Steel Flat Products from Australia: Preliminary Results of Antidumping Duty Administrative Review; 2017-2018, 84 FR 68876 (December 10, 2019) (Preliminary Results), and accompanying Preliminary Decision Memorandum.

² See Memorandum, “Extension of Deadline for Final Results of Antidumping Duty Administrative Review; 2017-2018,” dated March 13, 2020.

³ See Memorandum, “Tolling of Deadlines for Antidumping and Countervailing Duty Administrative Reviews in Response to Operational Adjustments Due to COVID-19,” dated April 24, 2020.

On May 11 and 12, 2020, we received case briefs from BlueScope and the petitioners,⁴ respectively.⁵ On May 18, 2020, we received rebuttal briefs from both BlueScope and the petitioners.⁶

⁴ The petitioners are the United States Steel Corporation, AK Steel Corporation, ArcelorMittal USA LLC, Nucor Corporation, and Steel Dynamics, Inc.

⁵ See BlueScope's Case Brief, “Case Brief of BlueScope Steel. Ltd: Certain Hot-Rolled Steel Products from Australia,” dated March 11, 2020; and Petitioners' Case Brief, “Hot-Rolled Steel Flat Products from Australia: Petitioners' Case Brief,” dated March 11, 2020.

⁶ See BlueScope's Rebuttal Brief, “Rebuttal Brief of BlueScope Steel Ltd: Certain Hot-Rolled Steel Products from Australia,” dated March 18, 2020; and Petitioners' Rebuttal Brief, “Hot-Rolled Steel Flat Products from Australia: Petitioners' Rebuttal Brief,” dated March 18, 2020.

On July 21, 2020, Commerce tolled all deadlines in administrative reviews by an additional 60 days.⁷ The deadline for the final results of this review is now September 30, 2020. Commerce conducted this administrative review in accordance with section 751 of the Tariff Act of 1930, as amended (the Act).

⁷ See Memorandum, “Tolling of Deadlines for Antidumping and Countervailing Duty Administrative Reviews,” dated July 21, 2020.

Scope of the Order

The merchandise subject to the order is certain hot-rolled steel flat products from Australia. For a full description of the scope of this order, see the Issues and Decision Memorandum.

Analysis of Comments Received

All issues raised by the parties in their case and rebuttal briefs are listed in the appendix to this notice and are addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed Issues and Decision Memorandum and the electronic version of the Issues and Decision Memorandum are identical in content.

Changes Since the Preliminary Results

In the Preliminary Results, we found that application of partial adverse facts available (AFA) was appropriate because we found that BlueScope had not acted to the best of its ability to supply Commerce with necessary information. For these final results, we are no longer applying partial AFA to BlueScope's home market sales with incomplete product characteristics. We have also excluded from BlueScope's U.S. sales database products that were re-exported because the first sale to an unaffiliated customer for these sales was to a customer in a third country. Finally, we made a minor change to the arm's-length test conducted for home market sales, using the consolidated customer code rather than the unconsolidated customer code. For a discussion of the above-referenced changes, see the “Changes Since the Preliminary Results” section of the Issues and Decision Memorandum.

Final Results of the Review

We are assigning the following dumping margin to the exporter/producer listed below for the POR, October 1, 2017 through September 30, 2018:

Exporter/producer | Weight- average dumping margin (percent)
BlueScope Steel Ltd./BlueScope Steel (AIS) Pty Ltd./BlueScope Steel Distribution Pty Ltd | 2.72

Disclosure

We will disclose to interested parties the calculations performed in connection with these final results within five days of the publication of this notice, consistent with 19 CFR 351.224(b).

Assessment Rates

Pursuant to section 751(a)(2)(A) of the Act, and 19 CFR 351.212(b)(1), Commerce will determine, and U.S. Customs and Border Protection (CBP) shall assess, antidumping duties on all appropriate entries of subject merchandise in accordance with the final results of this review.

For BlueScope, because its weighted-average dumping margin is not zero or de minimis (i.e., less than 0.5 percent), Commerce has calculated importer-specific antidumping duty assessment rates. Because BlueScope reported the entered value for all its U.S. sales, we calculated importer-specific antidumping duty assessment rates based on the ratio of the total amount of antidumping duties calculated for the examined sales to the total entered value of those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

Consistent with Commerce's assessment practice, for entries of subject merchandise during the POR produced by BlueScope, for which BlueScope did not know that the merchandise was destined for the United States, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed company will be the rate shown above; (2) for merchandise exported by producers or exported not covered in this administrative review but covered in a prior segment of this proceeding, the cash deposit rate will continue to be the company-specific rate published for the most recently-completed segment of this proceeding; (3) if the exporter is not a firm covered in this review, a previous review, or the original less-than-fair-value (LTFV) investigation, but the producer is, then the cash deposit rate will be the rate established for the most recently completed segment of this proceeding for the producer of the subject merchandise; and (4) the cash deposit rate for all other producers or exporters will continue to be 29.58 percent, the all-others rate established in the LTFV investigation.⁹ These cash deposit requirements, when imposed, shall remain in effect until further notice.

⁹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

Notification to Importers

This notice serves as the only reminder to importers of their responsibility, under 19 CFR 351.402(f)(2), to file a certificate regarding the reimbursement of antidumping duties prior to liquidation of the relevant entries during this review period. Failure to comply with this requirement could result in Commerce's presumption that reimbursement of antidumping duties occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We are issuing and publishing this notice in accordance with sections 751(a)(1) and 777(i) of the Act and 19 CFR 351.213(h). Note that Commerce has temporarily modified certain of its requirements for serving documents containing business proprietary information, until further notice.¹⁰

¹⁰ See Temporary Rule Modifying AD/CVD Service Requirements Due to COVID-19; Extension of Effective Period, 85 FR 41363 (July 10, 2020).

Dated: September 30, 2020.
Jeffrey I. Kessler,
Assistant Secretary for Enforcement and Compliance.

Appendix

List of Topics Discussed in the Issues and Decision Memorandum

I. Summary

II. Background

III. Scope of the Order

IV. Changes to the Preliminary Results

V. Discussion of the Issues

Comment 1: Reimbursement of Antidumping Duties

Comment 2: Partial AFA for Home Market Sales with Incomplete Control Numbers

Comment 3: U.S. Sales of Products That Were Re-Exported

Comment 4: Programming Error

VI. Recommendation

[FR Doc. 2020-22181 Filed 10-6-20; 8:45 am]

BILLING CODE 3510-DS-P